CIVIL RIGHTS COLD CASE RECORDS REVIEW BOARD

[Agency Docket Number: CRCCRRB-2025-0020-N]

Notice of Formal Determination on Records Release

AGENCY: Civil Rights Cold Case Records Review Board.

ACTION: Notice.

SUMMARY: The Civil Rights Cold Case Records Review Board received 909 pages of records from the National Archives and Records Administration (NARA), the Department of Justice, and the Federal Bureau of Investigation (FBI) related to two civil rights cold case incidents to which the Review Board assigned the unique identifiers 2023-002-009 and 2024-003-004. The Department of Justice and the FBI proposed 1,740 postponements in the records. The FBI later withdrew 310 of the postponements the Bureau proposed after consultation with the Review Board. On July 11, 2025 and July 18, 2025, the Review Board met and approved 280 postponements and portions of 28 additional postponements, and determined that 779 pages in full and 130 pages in part should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

BILLING CODE 6820-SY-P

Authority: Pub. L. 115-426, 132 Stat. 5489 (44 U.S.C. 2107).

Dated: July 18, 2025.
Stephannie Oriabure,
Chief of Staff.

[FR Doc. 2025-13805 Filed 7-22-25; 8:45 am]

BILLING CODE 6820-SY-C